DEPARTMENT OF HEALTH AND HUMAN SERVICES

Centers for Disease Control and Prevention

[60Day-12-12LR]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly Lane, CDC Reports Clearance Officer, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Community Transformation Grants: Evaluation of Nutrition, Physical Activity, and Obesity-related Television Media Campaigns—New—National Center for Chronic Disease Prevention and Health Promotion (NCCDPHP), Centers for Disease Control and Prevention (CDC).

Background and Brief Description

Chronic diseases such as cancer, heart disease, and diabetes are among the most common and costly health problems, accounting for 70% of all deaths in the U.S. These diseases also cause major limitations in daily living for almost one out of ten Americans or about 25 million people. Adopting healthy behaviors such as eating nutritious foods, being physically active, and avoiding tobacco use have been shown to prevent the devastating effects of these diseases.

Recent legislative developments highlight the importance of chronic disease prevention in efforts to improve the public's health. These developments include the American Recovery and Reinvestment Act (ARRA) of 2009, which provided $650 million to carry out evidence-based prevention and wellness strategies. The Department of Health and Human Services (HHS) has developed an initiative in response to ARRA—the Affordable Care Act (ACA)—that is helping to reorient the U.S. health care system from primarily treating disease to promoting population health and well-being. Between 2009-2011, ARRA and ACA funding was authorized to two CDC programs—Communities Putting Prevention to Work (CPPW), and Community Transformation Grants (CTG)—in support of community-based policy and environmental strategies to reduce the prevalence and burden of chronic diseases.

Through the CPPW program, CDC provided funding to 51 awardees nationwide to implement evidence-based prevention and wellness strategies to increase physical activity, improve nutrition, and reduce tobacco use and exposure to secondhand smoke. A key focus of the CPPW Program is to promote community-wide policies, systems, and environmental changes across five evidence-based MAPPS strategies: Media, Access, Point of decision information, Price and, Social support services. In fiscal year (FY) 2011, CDC also funded 61 CTG cooperative agreements with state, local, and tribal government agencies and nonprofit organizations to support, disseminate, and amplify successful program models and activities as prescribed under statutory authority (Section 4201[c][5] of the ACA). CTG awardees are required to focus on three of five strategic directions: (1) Tobacco-free living, (2) active lifestyles and healthy eating, (3) and high-impact evidence-based clinical and other preventive services.

Several CTG awardees have or are planning to implement community-driven, mass-media campaigns addressing nutrition, physical activity, and obesity (NPAO). Many of these campaigns are currently under development and may include messaging about the importance of regular physical activity, fruit and vegetable consumption, and avoidance of sugar-sweetened beverages in adults and children, in addition to raising awareness about obesity prevalence and associated health outcomes. Primary objectives of the campaigns are to increase public awareness of these messages, shift attitudes and beliefs toward healthy behavior change, and increase public support for proven policies and programs to prevent obesity. The campaigns' primary audiences will be adults aged 18 and older; specific messaging content will vary among awardees.

As part of a multi-component evaluation plan for the CTG Program, CDC is seeking OMB approval to collect the information needed to evaluate the effectiveness of NPAO-targeted local television media campaigns. The items of information to be collected focus on the following areas: Audience awareness and recall of local campaigns; reactions to and perceptions of campaign messages; NPAO-related knowledge, attitudes, and beliefs; support for NPAO-related policy/environmental change; intentions to change NPAO-related behaviors; NPAO-related behaviors; and socio-demographic characteristics. This information will be used to evaluate the impact of these efforts on key NPAO-related outcomes and to examine the extent to which campaign effectiveness varies by characteristics and stylistic features of different campaign advertisements. The information will inform the CTG Program and other NPAO-targeted media campaigns and help to improve the clarity, salience, appeal, and persuasiveness of messages and campaigns supporting CDC's mission.

Information will be collected through a Web-based questionnaire to be completed on personal computers in the home setting. Adult respondents will be recruited from the Knowledge Networks (KN) panel, a large online panel of the U.S. population. CDC estimates that approximately 13,300 respondents must be screened in order to yield the target number of 8,000 completed questionnaires. The estimated burden per response is six minutes for screening and 30 minutes for the main questionnaire. CDC's authority to collect information for public health purposes is provided by the Public Health Service Act (41 U.S.C. 241) Section 301.

Approval for this information collection is requested for one year. Participation is voluntary and there are no costs to respondents other than their time.

Estimated Annualized Burden Hours
Type of respondent | Form name | Number of respondents | Number of responses per respondent | Average burden per response (in hours) | Total burden (in hours)
Adults, ages 18+ in the U.S. | Screening and Consent | 13,300 | 1 | 6/60 | 1,330
| NPAO Questionnaire | 8,000 | 1 | 30/60 | 4,000
Total |  |  |  |  | 5,330

Kimberly S. Lane,
Deputy Director, Office of Scientific Integrity, Office of the Associate Director for Science, Office of the Director, Centers for Disease Control and Prevention.

[FR Doc. 2012-13682 Filed 6-5-12; 8:45 am]

BILLING CODE 4163-18-P